DEPARTMENT OF ENERGY

Federal Energy Regulatory Commission

[Docket No. CP08-6-000 and Docket No. PF07-4-000]

Midcontinent Express Pipeline LLC; Notice of Application

October 23, 2007.

Take notice that on October 9, 2007, and supplemented on October 19, 2007, Midcontinent Express Pipeline LLC (Midcontinent), 747 East 22nd Street, Lombard, Illinois 60148, filed an abbreviated application pursuant to section 7(c) of the Natural Gas Act (NGA) and Part 157 of the Commission's regulations, for a certificate of public convenience and necessity to construct and operate a new 502-mile natural gas pipeline system from southeastern Oklahoma to western Alabama. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Midcontinent requests: (1) Authorization to construct a new natural gas pipeline system consisting of 502 miles of primarily 30-inch to 42-inch diameter pipeline, a booster compressor station (9,470 hp), and 4 mainline compressor stations (102,250 hp), which will originate in southeastern Oklahoma, continue through Texas, Louisiana, Mississippi, and terminate in western Alabama; (2) authorization to lease up to 800,000 Dth/d in the Enogex Inc. intrastate system in Oklahoma to be connected at the origin of the Midcontinent system; (3) approval of Midcontinent's pro forma tariff and proposed recourse rates; and (4) issuance of a blanket construction certificate pursuant to Subpart F of Part 157 and a blanket transportation certificate pursuant to Subpart G of Part 284. On October 9, 2007, Enogex Inc. filed a related application, in Docket No. CP08-9-000, seeking a limited-jurisdiction certificate authorizing Enogex to lease up to 800,000 Dth/d of its intrastate pipeline capacity to Midcontinent.

Midcontinent proposes phased in-service dates and recourse rates. Midcontinent has committed to lease 275,334 Dth/d of capacity on the Enogex system but requests authority to increase the lease capacity up to 800,000 Dth/d at any time during the first 5 years after the project's in-service date. Midcontinent also requests that it be allowed up to 5 years after the project's in-service date in which to construct 2 of the requested mainline compressor stations. The project will have two zones. Without the 2 delayed-construction compressor stations, Zone 1 will have a capacity of 1,400,000 Dth/d and Zone 2 capacity will be 1,000,000 Dth/d. Construction of the final 2 compressor stations will provide an additional 100,000 Dth/d of capacity in Zone 1 and an additional 200,000 Dth/d in Zone 2. Estimated initial project cost is $1.28 billion without the final 2 compressor stations, rising to $1.34 billion with the final 2 compressor stations. Midcontinent requests a preliminary determination on non-environmental issues by March 2008, and a final order by July 2008, in order to commence construction by August 1, 2008. Midcontinent anticipates placing some pipeline facilities in-service on October 31, 2008, with all of the proposed facilities, except the final 2 compressor stations, going into service on February 28, 2009.

Any questions regarding the application are to be directed to Bruce H. Newsome, Vice President, Regulatory, Midcontinent Express Pipeline LLC, 747 East 22nd Street, Lombard, Illinois 60148-5072, telephone: (630) 691-3526 or e-mail: bruce_newsome@kindermorgan.com.

On February 22, 2007, the Commission staff granted Midcontinent's request to utilize the National Environmental Policy Act (NEPA) Pre-Filing Process and assigned Docket No. PF07-4-000 to staff activities involving the project. Now, as of the filing of this application on October 9, 2007, the NEPA Pre-Filing Process for this project has ended. From this time forward, this proceeding will be conducted in Docket No. CP08-6-000, as noted in the caption of this notice.

Pursuant to section 157.9 of the Commission's rules, 18 CFR 157.9, within 90 days of this Notice the Commission staff will either: complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission encourages electronic submission of protests and interventions in lieu of paper using the “eFiling” link at http://www.ferc.gov. Persons unable to file electronically should submit the original and 14 copies of the protest or intervention to the Federal Energy regulatory Commission, 888 First Street, NE., Washington, DC 20426.

Comment Date: November 13, 2007.

Kimberly D. Bose,
Secretary.

[FR Doc. E7-21229 Filed 10-25-07; 8:45 am]

BILLING CODE 6717-01-P